NUCLEAR REGULATORY COMMISSION

Request for a License To Import Radioactive Waste

Pursuant to 10 CFR 110.70 (c) “Public Notice of Receipt of an Application,” please take notice that the Nuclear Regulatory Commission (NRC) has received the following request for an import license. Copies of the request are available electronically through ADAMS and can be accessed through the Public Electronic Reading Room (PERR) link: http://www.nrc.gov/reading-rm.html at the NRC Homepage.

Requests for hearing or intervention must be filed in accordance with the procedures set forth in 10 CFR Part 110, Subpart H and be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.nrc.gov/site-help/e-submittals.html. To ensure timely electronic filing, at least five days prior to the filing deadline, the petitioner/requestor should contact the Office of the Secretary by e-mail at HEARING.DOCKET@NRC.GOV, or by calling (301) 415-1677, to request a digital ID certificate and allow for the creation of an electronic docket.

In addition to a request for hearing or petition for leave to intervene, written comments, in accordance with 10 CFR 110.81, should be submitted within thirty days after publication of this notice in the Federal Register to the Office of the Secretary, U.S. Nuclear Regulatory Commission, Washington, DC 20555, Attention: Rulemaking and Adjudications.

The information concerning this import license application follows.

NRC Import License Application
[Description of Material]
Name of applicant Date of application Date received Application No. Docket No. | Material type | Total quantity | End use | Country of origin
AREVA NP Inc. September 25, 2007 (ML080280229) December 18, 2007 IW024 11005712 | Class A radioactive waste in the form of protective clothing, rags, metal shavings and rejected parts contaminated with Cobalt-60, Cobalt-58, Iron-59 and Manganese-54 | Total volume of one 55-gallon drum with approximately 60 kilograms of dry activity material contaminated with a maximum activity of 0.000070 Tbq (approximately 2 mCi) | Contaminated materials generated from refurbishment of the DC Cook Nuclear Plant's reactor coolant pump internals in France are to be returned to the U.S The returned waste will be sent to EnergySolutions, Oak Ridge, Tennessee for incineration. The waste meets EnergySolutions waste acceptance criteria and will be received in accordance with Tennessee license R-73008-C14 | France (Waste from processing in France of material originating in the U.S.)

For the Nuclear Regulatory Commission.
Dated this 5th day of March 2008 at Rockville, Maryland.
Scott W. Moore,
Deputy Director, Office of International Programs.

[FR Doc. E8-4859 Filed 3-10-08; 8:45 am]

BILLING CODE 7590-01-P